DEPARTMENT OF THE INTERIOR

Bureau of Reclamation

Fish and Wildlife Service

Multi-Species Conservation Program (MSCP) for the Lower Colorado River, Arizona, California, and Nevada

AGENCIES: Bureau of Reclamation, Interior; Fish and Wildlife Service, Interior.

ACTION: Supplemental Notice of Intent to prepare an Environmental Impact Statement (EIS)/Environmental Impact Report (EIR) and notice of supplemental public scoping meetings.

SUMMARY: Pursuant to the National Environmental Policy Act (NEPA) and the California Environmental Quality Act (CEQA), the U.S. Bureau of Reclamation (Reclamation), U.S. Fish and Wildlife Service (Service), and the Metropolitan Water District of Southern California (Metropolitan), intend to prepare an EIS/EIR to evaluate the impacts associated with implementing the MSCP for the Lower Colorado River (LCR) in the states of Arizona, California, and Nevada.

DATES AND ADDRESSES: Written comments on conservation alternatives and issues to be addressed in the EIS/EIR are requested by August 11, 2000, and should be sent to Mr. Tom Shrader, Attention: LC-2011, Bureau of Reclamation, P.O. Box 61470, Boulder City, NV 89006-1470, or faxed to Mr. Shrader at (702) 293-8146. Oral and written comments will be accepted at the public scoping meetings to be held at the following locations:

July 31, 2000, 6-8 p.m., Yuma Desalting Plant, Bureau of Reclamation, 7301 Calle Agua Salada, Yuma, Arizona.

August 1, 2000, 6-8 p.m., California Department of Fish and Game, 14700 S. Broadway, Blythe, California.

August 2, 6-8 p.m., Regional Government Center, 101 Civic Way, Laughlin, Nevada.

August 3, 2000, 6-8 p.m., Henderson Convention Center, 200 South Water Street, Henderson, Nevada.

Starting at 6:30 p.m. at each of the public scoping meetings listed above, the lead agencies will present an overview of MSCP alternatives currently being considered and issues that will be addressed in the EIS/EIR. There will be an opportunity for individuals to make formal statements following each presentation.

FOR FURTHER INFORMATION, CONTACT: Mr. Tom Shrader, Ecologist, Bureau of Reclamation at (702) 293-8703 or Mr. Sam Spiller, Lower Colorado River Coordinator, Fish and Wildlife Service at (602) 640-2720, ext. 208. Questions regarding the CEQA process should be directed to Ms. Laura Simonek, Metropolitan Water District of Southern California at (213) 217-6242. Information on the purpose, membership, meeting schedules and documents associated with the MSCP may be obtained on the Internet at www.lcrmscp.org, with a supplemental link to Reclamation's web page at www.lc.usbr.gov.

SUPPLEMENTARY INFORMATION: The initial notice of intent to prepare an EIS/EIR and notice of public scoping meetings were published in the Federal Register of May 18, 1999 (Vol. 64, No. 95, pages 27000-2702). A summary of comments provided during the initial scoping period and at the public scoping meetings held at six locations from June 15 to July 1, 1999, is provided on the Internet at Reclamation's web site: www.lc.usbr.gov. Look for “Scoping Summary Report” under Multi-Species Conservation Program.

The proposed action is a multi-species conservation program that will (1) conserve habitat and work toward the recovery of threatened and endangered species as well as reduce the likelihood of additional species listings under the Federal Endangered Species Act (ESA) and the California Endangered Species Act (CESA), (2) accommodate current water diversions and power production and optimize opportunities for future water and power development, to the extent consistent with the law, and (3) provide the basis for take authorization pursuant to ESA and CESA.

Reclamation and the Service are joint Federal leads for the EIS. The EIS will be the basis for (1) Reclamation's Record of Decision on implementing its portion of the MSCP and (2) the Service's Record of Decision on issuing an ESA section 10 permit. In addition to the EIS/EIR document, Reclamation will also prepare a biological assessment on its ongoing and future discretionary actions on the LCR, and the Service will utilize the assessment in preparing a biological opinion pursuant to section 7 of the ESA. Metropolitan is the designated CEQA lead agency for the EIR.

The Lower Colorado River MSCP is a partnership of state, Federal, tribal, and other public and private stakeholders with interest in managing the water and related resources of the Lower Colorado River basin. In August of 1995, the Department of the Interior and the states of Arizona, Nevada, and California entered into a Memorandum of Agreement and later a Memorandum of Clarification (MOA/MOC) for Development of a Lower Colorado River Multi-Species Conservation Program.

It is proposed that the MSCP will serve as a coordinated, comprehensive conservation approach for the lower Colorado River basin within the 100-year floodplain from below Glen Canyon Dam to the Southerly International Boundary with Mexico for a period of 50 years. The participants agreed to develop, implement, and fund the MSCP. It was also agreed to pursue an ecosystem-based approach to developing the MSCP for interim and long-term compliance with applicable endangered species and environmental laws and to implement conservation and protection measures for included species and habitats.

Preliminary MSCP alternatives currently under consideration for the MSCP include: (1) No Action, (2) Large habitat core restoration areas with minimized management, (3) Smaller habitat core restoration areas with more active, long-term management, (4) Habitat preservation and enhancement, and (5) Species coverage limited to Federal threatened and endangered, and a number of sensitive, non-listed species. These preliminary MSCP alternatives are further defined below and additional details will be provided during the presentations at the four scheduled public scoping meetings listed above. The alternatives presentations at the public scoping meetings will start at 6:30 p.m., followed by an opportunity for individuals to make formal statements on the MSCP. The lead agencies will be seeking suggestions and comments regarding alternatives and issues and concerns that need to be addressed in the EIS/EIR.

Under the No Action/No Project alternative, it is assumed that some or all of the current and future projects proposed for coverage under the MSCP would be implemented. Under the No Action/No Project alternative, impacts from these potential projects on listed and sensitive species and habitats would be evaluated and mitigated on a project-by-project basis, as is presently the case. Individual ESA section 10 permits or section 7 consultations would be required for activities involving take of listed species.

The Large Core/Minimal Management alternative addresses about 100 species and includes riparian, marsh, and aquatic strategies for the conservation efforts. The main focus of this alternative uses a habitat-based approach with large core habitat creation (1,250 acres or greater), existing habitat for corridors, and restoration areas with minimal management. The aquatic strategy in this alternative creates offstream refugia and allows for periodic reconnection to the river system. Non-native control strategies are included. The approaches for delivering water to the core areas include engineered connections such as canals, weirs, and other devices. This alternative also includes the provision for up to 40,000 cubic-feet-per-second releases from upstream reservoirs in conjunction with bankline and levee modification to create habitat. A floodplain management strategy would also be developed under this alternative. Water may be acquired for habitat management or maintenance through a variety of means, for example, from willing sellers or a water bank. The range of alternative acreage strategies suggested by a variety of scientists and biologists includes 12,000-80,000 acres of habitat restoration/creation.

The Smaller Core/Active Management alternative addresses about 100 species and includes riparian, marsh, and aquatic strategies for the conservation efforts. The main focus of this alternative uses a habitat-based approach with small core habitat creation (250 to 1,250 acres) in conjunction with habitat for corridors and restoration areas with an active management component. The aquatic strategy in this alternative creates offstream refugia without provision for periodic reconnection to the river system. Non-native control strategies are included. The approaches for delivering water to the core areas include engineered connections such as canals, weirs, and other devices. The range of alternative acreage strategies suggested by a variety of scientists and biologists includes 12,000-80,000 acres of habitat creation/restoration.

The Habitat Restoration and Enhancement alternative also addresses about 100 species and includes riparian, marsh, and aquatic strategies for the conservation efforts. The main focus of this alternative uses a habitat-based approach through preservation and creation of habitat anywhere within the species' breeding range within the United States and may take advantage, where appropriate, of cooperative activities with related/adjacent programs. The aquatic strategy in this alternative focuses on the establishment of self-sustaining populations in the Upper Salt River and other LCR tributaries through renovation of habitat, stocking of fish, and removal of non-native fish. Studies have indicated that approximately 58,000 acres of land throughout the breeding range of the southwestern willow flycatcher may be available for acquisition and subsequent preservation. This habitat conservation would need to be supplemented with other conservation for species residing only within the LCR.

The Smaller Number of Species alternative is a species-based approach that works toward recovery on an individual species basis. This alternative addresses a limited number of species, including ESA-listed species and those species that are most likely to be listed. Elements of large core and small core alternatives are incorporated to meet the recovery goals on a case-by-case basis. The aquatic strategy in this alternative creates off stream refugia and allows for periodic reconnection to the river system. Non-native control strategies are included. The approaches for delivering water to the core areas include engineered connections such as canals, weirs, and other devices. The range of alternative acreage strategies suggested by a variety of scientists and biologists includes 12,000-80,000 acres of habitat creation/restoration. However, the actual acreage required would depend on the suite of species covered under this alternative.

A public involvement program has been initiated and will be maintained throughout this EIS/EIR process. The goal is to keep the public and affected parties informed and actively involved as the project evolves. Given the number of entities participating (Federal, State, and local governments, Native Americans, and private interest groups), successfully providing information and soliciting feedback are critical to the project's effectiveness.

Probable Environmental Effects—Following is a preliminary list of probable environmental and economic issues and effects associated with the project. Other issues may be identified during the internal MSCP and public scoping process.

Biological Resources—Among the endangered species known to use the project area are the southwestern willow flycatcher, Yuma clapper rail, razorback sucker, bonytail, and bald eagle (being considered for delisting). Of prime concern will be the conservation of these and other species, such as the yellow-billed cuckoo (under review for listing under the ESA), and associated habitat within the 100-year floodplain. Implementation of the MSCP will have an overall benefit on biological resources by moving species toward recovery and reducing the likelihood of additional species listings.

Hydrology and Water Quality—Certain conservation strategies may alter onsite water resources, including waters of the United States [as defined in 40 CFR 230.3(s)], which are under the U.S. Army Corps of Engineers (Corps) jurisdiction. Under Section 404 of the Clean Water Act, the Corps is responsible for issuing a permit if a project may result in the placement of material into water of the United States. Until specific alternatives are developed, the effects on hydrology and water quality are unknown.

Floodplains and Wetlands—Implementation of the MSCP will have overall beneficial impacts on floodplains and wetlands, especially in maintaining or creating backwaters (wetlands) and reestablishing native riparian habitat which is essential to the recovery of species. The MSCP partnership has identified several thousand acres of flood plain sites that may have the potential for restoration and enhancement of native habitat. There are several opportunities for the MSCP partnership and Federal, state, Native American and private landowners to voluntarily develop and engage in long-term native habitat restoration. The conversion of developed crop lands to native habitat could be an important component of an MSCP alternative. The MSCP is also exploring the economic requirements associated with long-term leases or purchases of private holdings from willing lessors or sellers.

Cultural Resources—The program could disturb or affect archaeological resources, traditional cultural properties, Indian sacred sites, and Indian Trust Assets. However, it is the intent of the MSCP to avoid or mitigate such effects and the MSCP, as part of the EIS/EIR process, is currently evaluating the potential effects of the preliminary alternatives on such resources.

Socioeconomics—The potential socioeconomic impacts associated with implementation of the MSCP will be evaluated. This assessment may include municipal and industrial uses, agricultural productivity, and other socioeconomic considerations.

Recreation—During the initial scoping in 1999, numerous recreational concerns and issues were identified. In general they involved the potential effects of the MSCP on access to the flood plain and river; activities such as camping, fishing and hunting; boat size and type of motor; off road vehicle use; and implementing ESA and Executive Order 12962 regarding recreational fisheries.

Water and Hydroelectric Power Uses—The effect of various conservation measures on water and hydroelectric power uses will be evaluated. It is the intent of the MSCP to accommodate these uses while protecting covered species and their habitat within the project area.

Agricultural and Other Land Uses—Current agricultural resources or operations and land uses may be impacted. Land use and cropping patterns would change with the voluntary conversion of agricultural lands to native riparian habitat or the transfer of water rights for habitat maintenance and restoration.

International Impacts—Pursuant to council on environmental quality guidance regarding NEPA, potential trans-boundary impacts to Mexico resulting from implementation of the MSCP will be identified and analyzed. The project will not affect the delivery of water pursuant to the 1944 Mexico Water Treaty.

Environmental Justice—It is anticipated that the MSCP will not result in disproportionately high and adverse human health or environmental effects on minorities and/or low income populations.

Related Project Documentation—It is anticipated that the EIS/EIR process will make full use (including incorporation by reference, as appropriate, pursuant to NEPA and CEQA) of the following project documents, copies of which are available for inspection at Metropolitan, Reclamation, and Service offices:

Bureau of Reclamation, Description and Assessment of Operations, Maintenance, and Sensitive Species of the Lower Colorado River—Final Biological Assessment, August 1996.

Fish and Wildlife Service, Biological and Conference Opinion on Lower Colorado River Operations and Maintenance—Lake Mead to Southerly International Boundary, April 1997.

These documents may also be accessed through Reclamation's web site at www.lc.usbr.gov. See “Published Reports” at Multi-Species Conservation Program.

The draft EIS/EIR is expected to be available for public review by the first half of 2001.

Dated: July 5, 2000.
Robert W. Johnson,
Regional Director, Lower Colorado Region, Bureau of Reclamation.
Dated: July 6, 2000.
Nancy M. Kaufman,
Regional Diector, Region Two, Fish and Wildlife Service.

[FR Doc. 00-17578 Filed 7-11-00; 8:45 am]

BILLING CODE 4310-MN-P